LEGAL SERVICES CORPORATION

Sunshine Act Meeting of the Board of Directors Finance Committee

TIME AND DATE: The Finance Committee of the Legal Services Corporation Board of Directors will meet November 20, 2004. The meeting will commence immediately following conclusion of the meeting of the Operations and Regulations Committee, the deliberations of which are anticipated to terminate at approximately 10 a.m. It is possible that the Committee meeting may convene earlier or later than expected, depending upon when the preceding committee concludes its business.

LOCATION: Westin Cincinnati, 21 E. 5th Street, Cincinnati, Ohio.

STATUS OF MEETING: Open.

MATTERS TO BE CONSIDERED:

Open Session

1. Approval of agenda.

2. Approval of the minutes of the Committee's meeting of September 10, 2004.

3. Presentation of LSC's Financial Reports for the Twelve-Month Period Ending September 30, 2004.

4. Update on the status of the FY 2005 Revised Temporary Operating Budget.

Closed Session

5. Briefing ¹ by the Inspector General on the budget of the Office of the Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

6. Briefing by management on implications of increasing coverage limits under LSC's Directors & Officers liability insurance policy.

Open Session

7. Consider and act on increasing the coverage limits under LSC's Directors & Officers liability insurance policy.

8. Consider and act on other business.

9. Public comment.

10. Consider and act on adjournment of meeting.

CONTACT PERSON FOR INFORMATION: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: November 11, 2004.
Victor M. Fortuno,
Vice President for Legal Affairs, General Counsel & Corporate Secretary.

[FR Doc. 04-25484 Filed 11-12-04; 12:25 pm]

BILLING CODE 7050-01-P